DEPARTMENT OF AGRICULTURE

Forest Service

Flathead Resource Advisory Committee

AGENCY: Forest Service, USDA.

ACTION: Notice of meetings.

SUMMARY: The Flathead Resource Advisory Committee will meet in Kalispell, Montana. The committee is authorized under the Secure Rural Schools and Community Self-Determination Act (Pub. L. 112-141) (the “Act”) and operates in compliance with the Federal Advisory Committee Act. The purpose of the committee is to improve collaborative relationships and to provide advice and recommendations to the Forest Service concerning projects and funding consistent with the Title II of the Act. The meeting is open to the public. The purpose of the meeting is to re-evaluate project proposals for 2013 due to reduced funding related to sequestration.

DATES: The meetings will be held May 14, 2013 with an alternative meeting date of May 28, 2013. Meetings will begin at 4:00 p.m. and end at 6:30 p.m.

ADDRESSES: The meetings will be held at 650 Wolfpack Way, Flathead National Forest Office, Kalispell, MT, 59901. Written comments may be submitted as described under Supplementary Information. Written comments should be sent to Flathead National Forest, Attn: Wade Muehlhof/RAC, 650 Wolfpack Way, Kalispell, MT, 59901. Comments may also be sent via email to ewmuehlhof@fs.fed.us or via facsimile to 406-758-5351.

All comments, including names and addresses when provided, are placed in the record and are available for public inspection and copying. The public may inspect comments received at 650 Wolfpack Way, Kalispell, MT 59901. Visitors are encouraged to call ahead to 406-758-5252 to facilitate entry into the building.

FOR FURTHER INFORMATION CONTACT: Wade Muehlhof, Flathead National Forest, 406-758-5252.

Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. The following business will be conducted: review of project proposals and adjustment of approvals based on the new funding amount. Anyone who would like to bring related matters to the attention of the committee may file written statements with the committee staff before or after the meeting. The agenda will include time for people to make oral statements of three minutes or less. Individuals wishing to make an oral statement should request in writing by May 1, 2013, to be scheduled on the agenda. Written comments and requests for time for oral comments must be sent to Flathead National Forest, Attn: Wade Muehlhof/RAC, 650 Wolfpack Way, Kalispell, MT 59901, or by email to ewmuehlhof@fs.fed.us, or via facsimile to 406-758-5351. A summary of the meeting will be posted at https://fsplaces.fs.fed.us/fsfiles/unit/wo/secure_rural_schools.nsf within 21 days of the meeting.

Meeting Accommodations: If you are a person requiring resonable accomodation, please make requests in advance for sign language interpreting, assistive listening devices or other reasonable accomodation for access to the facility or procedings by contacting the person listed under For Further Information Contact. All reasonable accommodation requests are managed on a case by case basis.

Dated: April 15, 2013.
Chip Weber,
Forest Supervisor, Flathead National Forest.

[FR Doc. 2013-09357 Filed 4-19-13; 8:45 am]

BILLING CODE 3410-11-P